FEDERAL RESERVE SYSTEM

Formations of, Acquisitions by, and Mergers of Bank Holding Companies; Correction

This notice corrects a notice (FR Doc. 02-25643) published on page 62976 of the issue for Wednesday, October 9, 2002.

Under the Federal Reserve Bank of Minneapolis heading, the entry for State Bankshares, Inc., Fargo, North Dakota, is revised to read as follows:

A. Federal Reserve Bank of Minneapolis (Julie Stackhouse, Vice President) 90 Hennepin Avenue, Minneapolis, Minnesota 55480-0291:

1. State Bankshares, Inc., Fargo, North Dakota; to acquire 100 percent of the voting shares of State Bank of Moorhead, Moorhead, Minnesota.

In connection with this application, Applicant also has applied to acquire Northern Capital Holding Company, Fargo, North Dakota, and thereby engage in providing trust services, financial and investment advisory services, transactional services for customer investments, and payroll services and processing, pursuant to §§ 225.28(b)(5), (b)(6)(i), (b)(7)(i), and (b)(14)(i) of Regulation Y.

Comments on this application must be received by November 1, 2002.

Board of Governors of the Federal Reserve System, October 11, 2002.
Robert deV. Frierson,
Deputy Secretary of the Board.

[FR Doc. 02-26545 Filed 10-17-02; 8:45 am]

BILLING CODE 6210-01-P